DEPARTMENT OF ENERGY

Federal Energy Regulatory Commission

[Docket No. RP03-4-001]

Panhandle Eastern Pipe Line Company; Notice of Compliance Filing

November 26, 2002.

Take notice that on November 20, 2002, Panhandle Eastern Pipe Line Company (Panhandle ) tendered for filing various statements, schedules and information regarding transportation fuel usage and retention.

Panhandle states that the filing is in compliance with the Commission's October 31, 2002, order accepting and suspending tariff sheets subject to refund and conditions and further review, reported at 101 FERC ¶ 61, 124.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-30721 Filed 12-3-02; 8:45 am]

BILLING CODE 6717-01-P